DEPARTMENT OF ENERGY

Federal Energy Regulatory Commission

[Project Nos. 2413-043]

Georgia Power Company; Notice of Availability of Draft Environmental Assessment

November 14, 2001.

In accordance with the National Environmental Policy Act of 1969 and the Federal Energy Regulatory Commission's (Commission's) regulations, the Office of Energy Projects has reviewed the application filed January 2, 2001, requesting the Commission's authorization to amend the project license. An environmental assessment (EA) is available for public review. The EA analyzes the environmental impacts of approving Georgia Power Company's (licensee for the Wallace Dam Project, FERC No. 2413) request to amend the project license to permit the City of Greensboro to increase their maximum rate of water withdrawal from 3.8 cubic feet per second (cfs) ¹ or 2.45 million gallons per day (MGD) from Lake Oconee to 3.3 MGD.

¹ FERC 25 ¶ 62,058, Order Approving Change in Land Rights, issued July 29, 1980.

Copies of the EA can be viewed at the Commission's Public Reference Room, Room 2A, 888 First Street, NE, Washington, DC 20426, or by calling (202) 208-1371. Copies of this filing are on file with the Commission and are available for public inspection. The EA may also be viewed on the web at http://www.ferc.gov using the “RIMS” link, select “Docket#” and follow the instructions (call 202-208-2222 for assistance).

Anyone may file comments on the EA. The public, federal and state resource agencies are encouraged to provide comments. All written comments must be filed within 30 days of the issuance date of this notice shown above. Comments, protests and interventions may be filed electronically via the Internet in lieu of paper. See, 18 CFR 385.2001(a)(1)(iii) and the instructions on the Commission's web site under the “e-Filing” link. Send an original and eight copies of all comments marked with the docket number P-2413-040 to: The Secretary, Federal Energy Regulatory Commission, 888 First Street, NE, Washington, DC 20426. If you have any questions regarding this notice, please contact Sean Murphy at telephone: (202) 219-2964 or email: sean.murphy@ferc.fed.us.

David P. Boergers,
Secretary.

[FR Doc. 01-28953 Filed 11-19-01; 8:45 am]

BILLING CODE 6717-01-P